DEPARTMENT OF HOUSING AND URBAN DEVELOPMENT

[Docket No. FR-5770-N-01]

Request for Comment on the 2015 American Housing Survey Metropolitan Samples

AGENCY: Office of the Assistant Secretary for Policy Development and Research, HUD.

ACTION: Notice.

SUMMARY: This notice announces the intent of the Department of Housing and Urban Development (HUD) to conduct the American Housing Survey (AHS) for 2015 with a new national sample and up to 30 metropolitan area samples. As part of the planning for the 2015 AHS, HUD is soliciting public comments regarding which metropolitan areas should be sampled. HUD is interested in all comments, especially from government policymakers, academic researchers, and AHS data users that specify: (1) Which metropolitan areas are important from a housing policy perspective; (2) which metropolitan areas are important from a housing program perspective, including, but not limited to, low-income and assisted housing programs; and (3) which metropolitan areas are important for other demographic or socioeconomic reasons. HUD encourages those persons interested in commenting to consider these three questions when suggesting metropolitan areas to be sampled for 2015.

DATES: Comments Due Date: April 7, 2014.

ADDRESSES: Interested persons are invited to submit comments regarding this proposal. Comments must refer to the above docket number and title. There are two methods for submitting public comments:

1. Submission of Comments by Mail. Comments may be submitted by mail to Shawn Bucholtz, Director, Housing and Demographic Analysis Division, Office of Policy Development and Research, Department of Housing and Urban Development, 451 7th St. SW., Room 8222, Washington, DC 20410. Due to security measures at all federal agencies, however, submission of comments by mail often results in delayed delivery. To ensure timely receipt of comments, HUD recommends that comments submitted by mail be submitted at least two weeks in advance of the public comment deadline.

2. Electronic Submission of Comments. Interested persons may submit comments electronically through the Federal eRulemaking Portal at http://www.regulations.gov. HUD strongly encourages commenters to submit comments electronically. Electronic submission of comments allows the commenter maximum time to prepare and submit a comment, ensures timely receipt by HUD, and enables HUD to make them immediately available to the public. Comments submitted electronically through the www.regulations.gov Web site can be viewed by other commenters and interested members of the public. Commenters should follow the instructions provided on that site to submit comments electronically.

Note: To receive consideration as public comments, comments must be submitted through one of the two methods specified above. Again, all submissions must refer to the docket number.

No Facsimile Comments. Facsimile (FAX) comments are not acceptable.

Public Inspection of Public Comments: All properly submitted comments and communications submitted to HUD will be available for public inspection and copying between 8 a.m. and 5 p.m. weekdays at the above address. Due to security measures at the HUD Headquarters building, an advance appointment to review the public comments must be scheduled by calling the Regulations Division at 202-708-3055 (this is not a toll-free number). Individuals with speech or hearing impairments may access this number through TTY by calling the Federal Relay Service at 800-877-8339. Copies of all comments submitted are available for inspection and downloading at http://www.regulations.gov.

FOR FURTHER INFORMATION CONTACT: Shawn Bucholtz, Director, Housing and Demographic Analysis Division, Office of Policy, Development and Research, 451 7th Street SW., Room 8222, Washington, DC 20410-0500, telephone number 202-402-5538 (this is not a toll-free number). Hearing- or speech-impaired individuals may access this number via TTY by calling the toll-free Federal Relay Service at telephone number 1-800-877-8339.

SUPPLEMENTARY INFORMATION:

A. Background

The American Housing Survey (AHS) provides a periodic measure of the size and composition of the country's housing inventory and provides valuable information about housing costs and housing quality. HUD provides all funding and oversight for the AHS. Through an interagency agreement, the Census Bureau provides operational management and field data collection for the survey.

The current AHS collects data on subjects such as the amount and types of changes in the housing stock, the physical condition of the housing stock, the characteristics of the occupants, housing costs, the persons eligible for and beneficiaries of assisted housing, and the number and characteristics of vacant units.

HUD needs AHS data to monitor the interaction among housing needs, demand and supply, as well as changes in housing conditions and costs, to aid in the development of housing policies and the design of housing programs appropriate for different target groups, such as first-time home buyers and the elderly. AHS data allow HUD to evaluate, monitor, and design HUD programs to improve efficiency and effectiveness. Policy analysts, program managers, budget analysts, and Congressional staff use AHS data to advise executive and legislative branches about housing conditions and the suitability of public policy initiatives. Academic researchers and private organizations also use AHS data in efforts of specific interest and concern to their respective communities.

B. AHS Sample Design

The AHS is composed of a national longitudinal sample, which is surveyed every two years, and metropolitan longitudinal samples, which have been surveyed at irregular intervals. The current national longitudinal sample was drawn in 1985, with additions and subtractions to account for new construction, demolitions and conversions. The national longitudinal sample is designed to be representative of the nation's housing stock.

The metropolitan longitudinal samples are designed to be representative of the housing stock within a specific metropolitan area. The metropolitan longitudinal samples (55) were drawn at various points in time between 1974 and 2013. The 2013 AHS was the final survey administered to the current national and metropolitan longitudinal samples. HUD will draw a new national longitudinal sample and individual metropolitan longitudinal samples for 2015 and beyond.

C. AHS Metropolitan Longitudinal Sample History

The current goal of the AHS is to survey each of the largest 60 metropolitan areas once every four years. However, due to budgetary reductions, this goal has not been achieved since the late 1970s. The most recent surveys, the 2011 AHS and the 2013 AHS, have benefited from increased funding, which has enabled HUD to nearly achieve its metropolitan area sample goal. The 2011 AHS included 29 metropolitan area samples, and the 2013 AHS included 25 metropolitan area samples. Table 1 summarizes the metropolitan area samples in the 2011 AHS. Table 2 summarizes the metropolitan area samples in the 2013 AHS.

Table 1—Metropolitan Area Samples in the 2011 AHS
Metropolitan area or division | Years spanned by longitudinal sample
Anaheim-Santa Ana Metro Division | 1974, 1977, 1981, 1986, 1990, 1994, 2002, 2011.
Atlanta-Sandy Springs-Marietta, GA Metro Area | 1996, 2004, 2011.
Birmingham-Hoover, AL Metro Area | 1998, 2011.
Buffalo-Niagara Falls, NY Metro Area | 1976, 1979, 1984, 1988, 1994, 2002, 2011.
Charlotte-Gastonia-Concord, NC-SC Metro Area | 1995, 2002, 2011.
Cincinnati-Middletown, OH-KY-IN Metro Area | 1998, 2011.
Cleveland-Elyria-Mentor, OH Metro Area | 1996, 2004, 2011.
Columbus, OH Metro Area | 1995, 2002, 2011.
Dallas-Plano-Irving, TX Metro Division | 1974, 1981, 1985, 1989, 1994, 2002, 2011.
Denver-Aurora, CO Metro Area | 1995, 2004, 2011.
Fort Worth-Arlington, TX Metro Division | 1974, 1977, 1981, 1985, 1989, 1994, 2002, 2011.
Indianapolis-Carmel, IN Metro Area | 1996, 2004, 2011.
Kansas City, MO-KS Metro Area | 1995, 2002, 2011.
Los Angeles-Long Beach, CA Metro Division | 1995, 1999, 2003, 2011.
Memphis, TN-MS-AR Metro Area | 1996, 2004, 2011.
Milwaukee-Waukesha-West Allis, WI Metro Area | 1975, 1979, 1984, 1988, 1994, 2002, 2011.
New Orleans-Metairie-Kenner, LA Metro Area | 1995, 2004, 2009, 2011.
Oakland-Fremont-Hayward, CA Metro Division | 1998, 2011.
Phoenix-Mesa-Scottsdale, AZ Metro Area | 1974, 1977, 1981, 1985, 1989, 1994, 2002, 2011.
Pittsburgh, PA Metro Area | 1995, 2004, 2011.
Portland-Vancouver-Beaverton, OR-WA Metro Area | 1995, 2002, 2011.
Providence-New Bedford-Fall River, RI-MA Metro Area | 1998, 2011.
Riverside-San Bernardino-Ontario, CA Metro Area | 1975, 1978, 1982, 1986, 1990, 1994, 2002, 2011.
San Diego-Carlsbad-San Marcos, CA Metro Area | 1975, 1978, 1982, 1987, 1991, 1994, 2002, 2011.
San Francisco-San Mateo-Redwood City, CA Metro Division | 2011.
San Jose-Sunnyvale-Santa Clara, CA Metro Area | 1998, 2011.
St. Louis, MO-IL Metro Area | 1996, 2004, 2011.
Sacramento—Arden-Arcade—Roseville, CA Metro Area | 1996, 2004, 2011.
Virginia Beach-Norfolk-Newport News, VA-NC Metro Area | 1998, 2011.

Table 2—Metropolitan Area Samples in the 2013 AHS
Metropolitan area or division | Years spanned by longitudinal sample
Austin-Round Rock, TX Metro Area | 2013.
Baltimore-Towson, MD Metro Area | 1998, 2007, 2013.
Boston-Cambridge-Quincy, MA-NH Metro Area | 1998, 2007, 2013.
Chicago Metro Area | 1999, 2003, 2009, 2013.
Detroit-Warren-Livonia, MI Metro Area | 1999, 2003, 2009, 2013.
Hartford-West Hartford-East Hartford, CT Metro Area | 1996, 2004, 2013.
Houston-Sugar Land-Baytown, TX Metro Area | 1998, 2007, 2013.
Jacksonville, FL Metro Area | 2013.
Las Vegas-Paradise, NV Metro Area | 2013.
Louisville-Jefferson County, KY-IN Metro Area | 2013.
Miami-Fort Lauderdale-Miami Beach, FL Metro Area | 1995, 2002, 2007, 2013.
Minneapolis-St. Paul-Bloomington, MN-WI Metro Area | 1998, 2007, 2013.
New York Metro Area | 1995, 1999, 2003, 2009, 2013.
Nashville-Davidson—Murfreesboro—Franklin, TN Metro Area | 2013.
Northern NJ Metro Area | 1987, 1991, 1995, 1999, 2003, 2009, 2013.
Oklahoma City, OK Metro Area | 1996, 2004, 2013.
Orlando-Kissimmee, FL Metro Area | 2013.
Philadelphia, PA Metro Area | 1995, 1999, 2003, 2009, 2013.
Richmond, VA Metro Area | 2013.
Rochester, NY Metro Area | 1998, 2013.
San Antonio, TX Metro Area | 1995, 2004 ,2013.
Seattle-Tacoma-Bellevue, WA Metro Area | 1996, 2004, 2009, 2013.
Tampa-St. Petersburg-Clearwater, FL Metro Area | 1998, 2007, 2013.
Tucson, AZ Metro Area | 2013.
Washington-Arlington-Alexandria, DC-VA-MD-WV Metro Area | 1998, 2007, 2013.

D. Redesign Goals of the Metropolitan Longitudinal Samples

Since 2012, HUD has been redesigning the AHS in preparation for the 2015 survey. One area of emphasis during the redesign has been to increase the use and improve usefulness of the metropolitan area data. To do this, we investigated the use of metropolitan area samples in research and evaluated our methodology for determining which metropolitan areas to sample, including our goal of maintaining longitudinal metropolitan area samples by repeating them every four years. The 2015 AHS redesign process has emphasized for HUD the need to develop and maintain constituencies for metropolitan area data.

E. Metropolitan Areas of Importance for Housing Policy, Housing Programs, and Other Reasons

In the past, HUD chose which AHS metropolitan areas to sample based mainly on population size. While population size may be a useful criterion, there are at least three other criteria that may be of greater interest or importance to HUD and the AHS user community.

First, certain metropolitan areas may be good candidates for inclusion in the 2015 AHS because of one or more housing policy issues. For instance, some metropolitan areas may have experienced slower recovery from the housing crisis due to different foreclosure processes. Coastal metropolitan areas may be changing housing policy to improve resiliency to climate change.

Second, some metropolitan areas may be good candidates for inclusion in the 2015 AHS because of participation in housing programs, especially metropolitan areas that are experimenting with different low-income housing program alternatives.

Third, some metropolitan areas may be good candidates for inclusion in the 2015 AHS because of unique demographic or socioeconomic trends related to housing. For instance, some metropolitan areas may be facing fast growth due to energy production and are consequently experiencing housing supply shortages. Other metropolitan areas may be shrinking which could lead to vacant or abandoned housing.

Lastly, it is worth noting that some metropolitan areas may be good candidates for inclusion in the AHS in 2015 and in 2017 or 2019. For instance, in the aftermath of Hurricanes Katrina and Rita, HUD surveyed New Orleans in both 2007 and 2009 for the purposes of measuring recovery in the physical housing stock and in the overall housing market. Commenters should feel free to suggest a near-term (2015-2021) schedule for sampling one or more metropolitan areas.

F. Request for Comments

HUD is seeking additional information from the public regarding which metropolitan areas should be sampled for the 2015 AHS. Governmental policymakers, academic researchers, and other interested parties are encouraged to participate by submitting comments. Information regarding how to submit comments is stated in the ADDRESSES section of this notice.

Dated: January 17, 2014.
Jean Lin Pao,
General Deputy Assistant Secretary for Policy Development and Research.

[FR Doc. 2014-02193 Filed 2-3-14; 8:45 am]

BILLING CODE 4210-67-P